DEPARTMENT OF ENERGY

Federal Energy Regulatory Commission

[Docket Nos. CP21-465-000; CP21-465-001; CP21-465-002]

Driftwood Pipeline LLC; Notice of Draft Environmental Impact Statement Comment Meetings for the Line 200 and Line 300 Project

The staff of the Federal Energy Regulatory Commission (FERC or Commission) invites you to attend one of the virtual public comment meetings it will conduct by telephone on the Line 200 and Line 300 Project draft environmental impact statement. These virtual comment meetings will be held as follows:

Line 200 and Line 300 Project, Draft Environmental Impact Statement, Public Comment Meetings, Date, Time, and Call-in Information.

Tuesday, June 14, 2022, 5:30 p.m. (CST), Call in number: 800-779-8625, Participant passcode: 3472916.

Thursday, June 16, 2022, 5:30 p.m. (CST), Call in number: 800-779-8625, Participant passcode: 3472916.

Note that the comment meetings will start at 5:30 p.m. (CST) and will terminate once all participants wishing to comment have had the opportunity to do so, or at 7:30 p.m. (CST), whichever comes first. The primary goal of these comment meetings is to have you identify the specific environmental issues and concerns that should be considered in the final environmental impact statement. Individual oral comments will be taken on a one-on-one basis with a court reporter present on the line. This format is designed to receive the maximum amount of oral comments, in a convenient way during the timeframe allotted, and is in response to the ongoing COVID-19 pandemic.

There will be a brief introduction by Commission staff when the session opens. Important information about the FERC process will be provided, so please make every attempt to call in at the beginning of the meeting. All participants will be able to hear the one-on-one comments provided by other participants; however, all lines will remain closed during the comments of others and then opened one at a time for providing comments.

Your oral comments will be recorded by the court reporter (with FERC staff or representative present) and become part of the public record for this proceeding. Transcripts will be publicly available on FERC's eLibrary system. If a significant number of people are interested in providing oral comments in the one-on-one settings, a time limit of 5 minutes may be implemented for each commentor. It is important to note that oral comments hold the same weight as written or electronically submitted comments.

As a reminder, the Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; and

(3) You can file a paper copy of your comments by mailing them to the Commission. Be sure to reference the project docket number (CP21-465-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue Rockville, Maryland 20852.

This notice is being sent to the Commission's current environmental mailing list for the Project. Public sessions or site visits will be posted on the Commission's calendar located at https://www.ferc.gov/news-events/events along with other related information. Additional information about the project is available from the Commission's Office of External Affairs, at (866) 208-FERC, or on the FERC website (www.ferc.gov) using the eLibrary link.

Dated: June 6, 2022.
Kimberly D. Bose,
Secretary.

[FR Doc. 2022-12545 Filed 6-9-22; 8:45 am]

BILLING CODE 6717-01-P